ENVIRONMENTAL PROTECTION AGENCY

[FRL-6945-1]

Science Advisory Board; Notification of Three Public Advisory Committee Meetings

Pursuant to the Federal Advisory Committee Act, Public Law 92-463, notice is hereby given of three meetings of the Joint Subcommittee on Industrial Ecology and Environmental Systems Management of the US EPA Science Advisory Board's (SAB) Environmental Engineering Committee (EEC). First, the Subcommittee will meet by conference call from 1-2 p.m on Thursday March 1, 2001. From March 21 to 23, the Subcommittee will meet face-to-face in conference room 130/138 of the National Risk Management Research Laboratory at the Environmental Protection Agency's Andrew W. Breidenback Environmental Research Facility, 26 West Martin Luther King Boulevard, Cincinnati, Ohio. The Subcommittee will convene at 8:30 a.m. on Wednesday March 21 and adjourn no later than 3 p.m. Friday March 23. The Subcommittee may begin earlier and end later otherwise as needed for the work. Finally, on Wednesday April 18 the Subcommittee will meet by conference call from 1-3 p.m.

Both conference call meetings will be coordinated through a conference call connection in room 6450C Ariel Rios North (6th Floor), U.S. Environmental Protection Agency, 1200 Pennsylvania Avenue N.W., Washington, DC. The public is strongly encouraged to attend the meeting through a telephonic link, but may attend physically if arrangements are made in advance with the SAB staff. In both cases, arrangements should be made with the SAB staff by noon the Wednesday before the meeting. Staff may not be able to accommodate the presence of people who appear in person without advance notice. Additional instructions about how to participate in the conference calls can be obtained by calling Ms. Mary Winston, Management Assistant, at (202) 564-4538, and via e-mail at: winston.mary@epa.gov.

All times noted are Eastern Standard Time. All meetings are open to the public, however, seating is limited and available on a first come basis. Important Notice: Documents that are the subject of SAB activities are normally available from the originating EPA office and are not available from the SAB Office—information concerning availability of documents from the relevant Program Office is included below.

Purpose of the Meetings

1. The purpose of the March 1, 2001 conference call meeting is to allow the Subcommittee and the Agency to complete preparations for the face-to face meeting on March 21-23, 2001.

2. At the March 21-23, 2001 meeting, the Committee will conduct a consultation on environmental systems management research at EPA and prepare a commentary on industrial ecology.

A “consultation” is a means of conferring, as a group of knowledgeable individuals, in public session with the Agency on a technical matter, before the Agency has begun substantive work on that issue. The goal is to leaven EPA's thinking by brainstorming a variety of approaches to the problem very early in the development process. There is no attempt or intent to express an SAB consensus or to generate a formal SAB position. The Board, via a brief letter, simply notifies the Administrator that a Consultation has taken place.

The Subcommittee will prepare by individually selecting and reading documents that provide background information on the direction and focus of EPA's programs and those being conducted by or under the sponsorship of other government agencies, corporations, and Non governmental organizations (NGOs). The purpose of this preparation is to understand the context for the Environmental Systems Management research program.

Also, the Subcommittee will review a short document prepared by the Agency which describes the direction, scope, and focus of EPA's current and planned research and expertise in the areas that comprise Environmental Systems Management. Information in the document may be supplemented by briefings, Q&A and discussion with the Subcommittee and relevant ORD staff.

This is the tentative charge for this consultation. The Subcommittee will not attempt to develop a consensus. Individual members will comment on:

(a) the completeness of EPA's existing and planned research programs in Environmental Systems Management;

(b) whether scope, direction, and focus draw on EPA strengths and support EPA's mission;

(c) whether the Agency's assembled expertise is sufficient to address the multi-disciplinary nature of this type of research;

(d) the appropriateness of the EPA program given its strengths and weaknesses;

(e) whether there is a sound scientific basis for the program;

(f) overlaps with programs of other agencies, corporations, and NGOs

(g) the advisability of better coordination among different groups;

(h) the forms such coordination might take; and

(i) the adequacy of the planned budget.

While no written report will be prepared of the Subcommittee's thoughts, individual members will be encouraged to provide their comments in writing to the DFO who will include these with the minutes of the meeting.

A “commentary” is a short communication that provides unsolicited SAB advice about a technical issue the Board feels should be drawn to the Administrator's attention. The tentative charge for this commentary is:

(a) The Commentary will provide an overview of Industrial Ecology, including, for reference, a brief summary of activities at EPA.

(b) The Commentary will address how Industrial Ecology is consistent with, and complementary to, the single-pollutant, risk-based approach to environmental management.

(c) The Commentary will address the implications of industrial ecology for environmental policy, including identification of potential applications at EPA.

(d) The Commentary will address the kinds of research that would strengthen the scientific foundation of Industrial Ecology and provide a robust framework for application to environmental policy.

3. The Subcommittee will meet by conference call on April 18, 2001 from 1-3 p.m. to complete any remaining business from the March 21-23, 2001 meeting.

Availability of Materials—Copies of the brief descriptive material prepared by the Agency for the Environmental Systems Management Research consultation can be obtained after February 20, 2001 from Ms. Amy Fox, U.S. Environmental Protection Agency, 26 West Martin Luther King Drive, MS-498, Cincinnati, OH 45268. Ms. Fox may be reached by telephone at (513) 569-7079; fax (513) 487-2511, and by email at fox.amy@epa.gov.

FOR FURTHER INFORMATION CONTACT: Any member of the public wishing further information concerning this meeting or wishing to submit brief oral comments (10 minutes or less) must contact Ms. Kathleen White, Designated Federal Officer, Science Advisory Board (1400A), U.S. Environmental Protection Agency, 1200 Pennsylvania Avenue, NW, Washington, DC 20460; telephone (202) 564-4559; fax (202) 501-0582; or via e-mail at conway.kathleen@epa.gov. Requests for oral comments must be in writing (e-mail, fax or mail) and received by Ms. Kathleen White no later than noon Eastern Standard Time on the Wednesday before the scheduled meeting.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to Ms. White at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. White at least five business days prior to the meeting so that appropriate arrangements can be made.

Dated: February 7, 2001.
Donald G. Barnes,
Staff Director, Science Advisory Board.

[FR Doc. 01-3869 Filed 2-14-01; 8:45 am]

BILLING CODE 6560-50-P